DEPARTMENT OF COMMERCE

National Oceanic and Atmospheric Administration

[I.D. 091405E]

Endangered and Threatened Species; Take of Anadromous Fish

AGENCY: National Marine Fisheries Service (NMFS), National Oceanic and Atmospheric Administration, Commerce.

ACTION: Notice of decision and availability of decision documents on the issuance of Endangered Species Act (ESA) research/enhancement Permit 1520 for takes of endangered species.

SUMMARY: This notice advises the public that a scientific research permit has been issued to the Confederated Tribes of the Colville Reservation, pursuant to the Endangered Species Act of 1973 (ESA), and that the decision documents are available upon request.

DATES: Permit 1520 was issued on August 10, 2005, subject to certain conditions set forth therein. The permit expires on December 31, 2010.

ADDRESSES: Requests for copies of the decision documents or any of the other associated documents should be directed to the Salmon Recovery Division, NOAA's National Marine Fisheries Service, 1201 N.E. Lloyd Blvd., Suite 1100, Portland, Oregon 97232. The documents are also available on the Internet at www.nwr.noaa.gov.

FOR FURTHER INFORMATION CONTACT: Kristine Petersen, Portland, OR, at phone number: (503) 230-5409, e-mail: Kristine.Petersen@noaa.gov

SUPPLEMENTARY INFORMATION: This notice is relevant to the following species and evolutionarily significant units (ESUs):

Steelhead (Oncorhynchus mykiss): endangered Upper Columbia River.

Dated: September 15, 2005.
Angela Somma,
Chief, Endangered Species Division, Office of Protected Resources, National Marine Fisheries Service.

[FR Doc. 05-18752 Filed 9- 20-05; 8:45 am]

BILLING CODE 3510-22-S